DEPARTMENT OF TRANSPORTATION

Federal Railroad Administration

Petition for Waiver of Compliance

In accordance with part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

New Jersey Transit Corporation

[Supplement to Waiver Petition Docket Number FRA-1999-6135]

As a supplement to New Jersey Transit (NJ Transit) Corporation's Petition for Approval of Shared Use and Waiver of Certain Federal Railroad Administration Regulations (the Waiver was granted by the FRA on December 3, 1999), NJ Transit seeks permanent waiver of compliance from additional sections of Title 49 of the CFR for operation of its Southern New Jersey Light Rail Transit (SNJLRT) system. NJ Transit is providing information regarding modifications made to specific components of the SNJLRT system and SNJLRT vehicle (and relevant procedures) since the effective date of the December 3, 1999 Waiver. NJ Transit submits that such modifications are not material and are consistent with the granted Waiver. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

In this regard, NJ Transit has advanced the design and construction of the SNJLRT system towards implementation (Fall 2003) and in the process, has identified the following additional regulations from which it hereby seeks waivers: 49 CFR Part 219 Control of Alcohol and Drug Abuse will comply with the accepted FTA drug and alcohol policy; Part 234.105(c)(3) Grade Crossing Signal Safety-SNJLRT vehicles are operated by one-person crews, thus the operator will not be able to leave the vehicle to flag the crossing; and Part 236 Rules, Standards and Instructions Governing the Installation, Inspection, Maintenance and Repair of Signal and Train Control Systems, Devices and Appliances (§§ 236.23, 236.502, 236.504, and 236.507)—the automatic train stop system will function differently than the automatic train stop systems contemplated by the requirements in these sections.

Since the Waiver granted to NJ Transit on December 3, 1999, NJ Transit has informed the FRA of three modifications made to certain components of the SNJLRT system.

1. Intrusion Detection System (IDS) at Close Clearance Segments—NJ Transit has identified two dual-track segments where the centerline track distance is less than 17 feet, which conflicts with Conrail's governing construction standards which recommends 17-foot track centers. It will install an Obstacle/Intrusion Detection System (IDS) similar to ones used in other light rail systems. In the event that the IDS is not operational on the service opening date, NJ Transit has offered a set of temporary operating measures to provide substitute means of mitigating potential hazards due to close proximity to the general railroad system.

2. Adjacent Operations, Protection of Sidings—At the time the original Petition was filed, the signal system and track configuration of the SNJLRT system were in the preliminary engineering phase. Final construction of the SNJLRT system has resulted in some “as built” variances related to the installation of derails on the SNJLRT system. In addition, NJ Transit has made changes with respect to rules governing the placement of Conrail cars on sidings.

3. Emergency Brake Decals on Doors—NJ Transit has decided to add a decal to the Emergency Door Opening Switch to emphasize its function to activate brakes in case of emergency. This decal will read, “Brake For Emergency Use Only” and the label will be applied below the switch. NJ Transit uses such a decal in its other passenger rail operations.

Since FRA has not yet completed its investigation of NJ Transit's petition, the agency takes no position at this time on the merits of NJ Transit's stated justifications. As part of FRA's review of the petition, the Federal Transit Administration will appoint a representative to advise FRA's Safety Board and that person will participate in the board's consideration of NJ Transit's waiver petition.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-6135) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on September 15, 2003.
Grady C. Cothen, Jr.,
Deputy Associate Administrator for Safety Standards and Program Development.

[FR Doc. 03-24422 Filed 9-25-03; 8:45 am]

BILLING CODE 4910-06-P